DEPARTMENT OF TRANSPORTATION

Maritime Administration

[Docket No. MARAD 2010 0110]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before February 7, 2011.

FOR FURTHER INFORMATION CONTACT: Frances Jerry, Maritime Administration, 1200 New Jersey Avenue, SE., Washington, DC 20590; Telephone: (202) 366-5861 or e-mail: frances.jerry@dot.gov. Copies of this collection can also be obtained from that office.

SUPPLEMENTARY INFORMATION:

Title of Collection: Uniform Financial Reporting Requirements.

Type of Request: Extension of currently approved information collection.

OMB Control Number: 2133-0005.

Form Numbers: MA-172.

Expiration Date of Approval: Three years from date of approval by the Office of Management and Budget.

Summary of Collection of Information: The Uniform Financial Reporting Requirements are used as a basis for preparing and filing semi-annual and annual financial statements with the Maritime Administration. Regulations requiring financial reports to the Maritime Administration are authorized by Section 801 of the Merchant Marine Act, 1936 (46 U.S.C. 53101 note). Financial reports are also required by regulation of purchasers of ships from MARAD on credit, companies chartering ships from MARAD, and of companies having Title XI guarantee obligations (46 CFR part 298).

Need and Use of the Information: The information collection is necessary for MARAD to determine compliance with regulatory and contractual requirements.

Description of Respondents: Vessel owners acquiring ships from MARAD on credit, companies chartering ships from MARAD, and companies having Title XI guarantee obligations.

Annual Responses: 66 respondents.

Annual Burden: 1254 burden hours.

Comments: Comments should refer to the docket number that appears at the top of this document. Written comments may be submitted to the Docket Clerk, U.S. DOT Dockets, Room W12-140, 1200 New Jersey Avenue, SE., Washington, DC 20590. Comments may also be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

(Authority: 49 CFR 1.66)

By Order of the Maritime Administrator.
Dated: November 30, 2010.
Murray Bloom,
Acting Secretary, Maritime Administration.

[FR Doc. 2010-30658 Filed 12-6-10; 8:45 am]

BILLING CODE 4910-81-P